DEPARTMENT OF THE INTERIOR

Bureau of Indian Affairs

Notice of Intent To Prepare an Environmental Impact Statement for the Proposed Cowlitz Indian Tribe's Trust Acquisition and Casino Project, Clark County, WA

AGENCY: Bureau of Indian Affairs, Interior.

ACTION: Notice.

SUMMARY: This notice advises the public that the Bureau of Indian Affairs (BIA), as lead agency, with the National Indian Gaming Commission (NIGC) as cooperating agency, intends to gather information necessary for preparing an Environmental Impact Statement (EIS) for a proposed 151.87± acre trust acquisition and casino project to be located within Clark County, Washington. The purpose of the proposed action is to create a tribal land base which would enable the Cowlitz Indian Tribe (Tribe) to provide governmental services and perform governmental functions, provide jobs and career opportunities for tribal members, improve the tribal economy and tribal housing, and develop programs that would assist tribal members to attain economic self-sufficiency. This notice also announces a public scoping meeting to identify potential issues and content for inclusion in the EIS.

DATES: Written comments on the scope and implementation of this proposal must arrive by December 13, 2004. The public scoping meeting will be held December 1, 2004, from 6 p.m. to 9 p.m., or until the last public comment is received.

ADDRESSES: You may mail or hand carry written comments to Stanley Speaks, Regional Director, Northwest Regional Office, Bureau of Indian Affairs, 911 NE. 11th Avenue, Portland, Oregon 97232. The public scoping meeting will be held at Hudson's Bay High School, Commons Area, 1206 East Reserve Street, Vancouver, Washington. The entrance is off of East McLoughlin Boulevard.

FOR FURTHER INFORMATION CONTACT: June Boynton, (503) 231-6749.

SUPPLEMENTARY INFORMATION: The Tribe, which currently is landless, proposes that 151.87± acres of land be taken into trust to help it create a tribal land base for its people. The Tribe wishes to use the property for multiple tribal purposes, including economic development and the provision of governmental services.

More specifically, the Tribe contemplates that the site will be used for the development of gaming and related entertainment facilities, tribal government facilities and tribal housing. The eventual size and scope of these facilities may be altered based on information obtained through the EIS process, but the Tribe's current proposal is for approximately 160,000 square feet of gaming floor, 210,000 square feet of restaurant and retail facilities, 150,000 square feet of convention and entertainment facilities, an approximately 250 room hotel, tribal governmental offices, a tribal cultural center and approximately 10 to 25 housing units. The proposed development would also include parking facilities for approximately 8,500 vehicles for patrons and employees, and an RV park with approximately 200 RV spaces.

The 151.87± acres encompass nine contiguous tax lots in Clark County, Washington, near Ridgfield and La Center, Washington. The project site is located along NW. 319th Street between NW. 41st Avenue and NW. 31st Avenue, and adjacent to Interstate 5 at the NW. 319th Street interchange.

The proposed action encompasses the various federal approvals which would be required to implement the Tribe's efforts to establish a tribal land base, including approval of the Tribe's fee-to-trust application, approval of the Tribe's gaming management contract and approval of the Tribe's request for a reservation proclamation.

Areas of environmental concern identified so far for analysis in the EIS include land resources, water resources, air quality, living resources, cultural resources, socioeconomic conditions, traffic and transportation, land use, public utilities and services, noise, lighting, hazardous materials, environmental justice, and visual resources/aesthetics. The range of issues and alternatives to be addressed in the EIS may be expanded or reduced, based on comments received in response to this notice and at the public scoping meeting.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508) implementing the procedural requirements of the National Environmental Policy Act of 1969, as amended (42 U.S.C. 4371 et seq.), and the Department of the Interior Manual (516 DM 1-6), and is in the exercise of authority delegated to the Principal Deputy Assistant Secretary—Indian Affairs by 209 DM 8.1.

Michael D. Olsen,
Acting Principal Deputy Assistant Secretary—Indian Affairs.

[FR Doc. 04-25161 Filed 11-10-04; 8:45 am]

BILLING CODE 4310-W7-P